ENVIRONMENTAL PROTECTION AGENCY

[FRL-6564-4]

Announcement of Schedule for Resource Conservation & Recovery Act (RCRA) Corrective Action Guidance Documents and Request for Feedback on RCRA Cleanup Reforms

AGENCY: Environmental Protection Agency (EPA).

ACTION: Notice .

SUMMARY: The intent of this notice is to announce a schedule and invite comment on three upcoming RCRA Cleanup Reforms draft guidance documents and invite additional feedback on the Resource Conservation & Recovery Act (RCRA) Cleanup Reforms announced on July 8, 1999. By inviting additional feedback and giving advanced notice of when we expect these draft guidance documents to be available for review and comment, we hope to encourage greater involvement by states, industry, and the public.

ADDRESSES: There will be a 60-day public comment period for each of three RCRA Corrective Action draft guidance documents. Brief descriptions of each of these draft guidance documents are included under Supplemental Information later in this Notice. The first draft guidance document that will be available is called the Handbook of Groundwater Policies for RCRA Corrective Action. The Agency expects it will be available for public review and comment in April 2000. If you would like to receive a copy, please call the RCRA Hotline at 800-424-9346 or TDD 800-553-7672 (hearing impaired).

Brief Federal Register Notices will announce the other two draft guidance documents when they become available later this spring. The Agency also intends to post these documents on the Corrective Action website http://www.epa.gov/correctiveaction.

If you wish to comment on the above draft guidance documents when they become available or provide feedback on the RCRA Cleanup Reforms in general, you should send an original and two copies of your comments, referencing docket number F-2000-CURA-FFFFF. If using regular US Postal Service mail to: RCRA Docket Information Center, U.S. Environmental Protection Agency Headquarters (EPA HQ), Office of Solid Waste, Ariel Rios Building (5305G), 1200 Pennsylvania Avenue NW, Washington, DC 20460-0002. If using special delivery such as overnight express service send to: RCRA Docket Information Center (RIC), Crystal Gateway I, 1235 Jefferson Davis Highway, First Floor, Arlington, VA 22202. Hand deliveries of comments should be made to the Arlington, VA, address above. You may also submit comments electronically through the Internet to: rcra-docket@epa.gov. Comments in electronic format must also reference the docket number F-2000-CURA-FFFFF. If you choose to submit your comments electronically, you should submit them as an ASCII file and should avoid the use of special characters and any form of encryption.

You should not submit electronically confidential business information (CBI). You must submit an original and two copies of CBI under separate cover to: RCRA CBI Document Control Officer, Office of Solid Waste, U.S. EPA, Ariel Rios Building (5305W), 1200 Pennsylvania Avenue NW, Washington, DC 20460-0002.

Any public feedback we receive and supporting materials will be available for viewing in the RCRA Information Center (RIC), located at Crystal Gateway I, First Floor, 1235 Jefferson Davis Highway, Arlington, VA. The RIC is open from 9 a.m. to 4 p.m., Monday through Friday, excluding federal holidays. To review docket materials, we recommend that you make an appointment by calling 703-603-9230. You may copy a maximum of 100 pages from any regulatory docket at no charge. Additional copies cost $0.15/page. The index and some supporting materials are available electronically. See the SUPPLEMENTARY INFORMATION section of this Federal Register notice for information on accessing the index and these supporting materials.

FOR FURTHER INFORMATION CONTACT: For general information or to obtain copies of the draft guidance documents when they become available and RCRA Cleanup Reforms information, contact the RCRA Hotline at 800-424-9346 or TDD 800-553-7672 (hearing impaired). In the Washington, DC, metropolitan area, call 703-412-9810 or TDD 703-412-3323.

For more detailed information on specific aspects of the draft guidance documents, contact Andrew Baca, Office of Solid Waste, 5303W, U.S. Environmental Protection Agency, 1200 Pennsylvania Avenue NW, Washington, DC 20460, (703-308-6787), (baca.andrew@epa.gov). For more detailed information on the RCRA Cleanup Reforms, contact Kevin Donovan, Office of Solid Waste, 5303W, U.S. Environmental Protection Agency, 1200 Pennsylvania Avenue NW, Washington, DC 20460, (703-308-8761), (donovan.kevin-e@epa.gov).

SUPPLEMENTARY INFORMATION: The draft guidance documents will be available on the Internet at: http://www.epa.gov/correctiveaction.

Information on the RCRA Cleanup Reforms (RCRA Cleanup Reforms Fact Sheet, RCRA Cleanup Baseline, Environmental Indicator Guidance, and additional Corrective Action Information) is available electronically at: http://www.epa.gov/epaoswer/osw/cleanup.htm.

The official record for this notice will be kept in paper form. Accordingly, we will transfer all feedback and input received electronically into paper form and place them in the official record, which will also include all comments submitted directly in writing. The official record is the paper record maintained at the RCRA Information Center.

All input will be thoroughly and seriously considered by EPA. Based on stakeholder input and our ongoing assessment of the program, we will continue to refine the RCRA Cleanup Reforms, add reforms as needed, and communicate program changes including those resulting from stakeholder input. We will provide periodic updates on the RCRA Cleanup Reforms and solicit input from stakeholders through several means including focus meetings, Federal Register Notices, the RCRA Corrective Action Newsletter (RCRA CAN), Internet postings, and press releases. EPA will not immediately reply to commenters electronically other than to seek clarification of electronic comments that may be garbled in transmission or during conversion to paper form, as discussed above.

The contents of today's notice are listed in the following outline:

I. What are the RCRA Cleanup Reforms?

II. What guidance documents are discussed in this notice?

A. Results-Based Approaches to Corrective Action

B. Corrective Action Completion Guidance

C. Handbook of Groundwater Policies for RCRA Corrective Action

III. Why are these guidance documents significant?

IV. What is the proposed schedule?

A. Guidance Document review

B. Feedback on RCRA Reforms

V. How Can I Influence EPA's Thinking on the RCRA Corrective Action Program?

I. What Are the RCRA Cleanup Reforms?

On July 8, 1999 EPA announced that it is implementing a set of administrative reforms, known as the RCRA Cleanup Reforms, to the Resource Conservation and Recovery Act (RCRA) Corrective Action Program. The reforms are designed to achieve faster, more efficient cleanups at RCRA sites that have actual or potential contamination. The Reform areas are:

—Provide new results-oriented guidance with clear objectives,

—Foster maximum use of program flexibility and practical approaches through training, outreach, and new uses of enforcement tools, and

—Enhance community involvement including greater public access to information on cleanup progress.

See the previous section entitled FOR FURTHER INFORMATION * * * on how to get additional detail and information on the RCRA Cleanup Reforms.

II. What Guidance Documents Are Discussed in This Notice?

Three draft guidance documents for the RCRA Corrective Action program are discussed below. Please note that the titles of these draft guidances may have changed slightly since the RCRA Cleanup Reforms announcement on July 8, 1999 as a result of the Agency's current thinking.

A. Results-Based Approaches to Corrective Action

This guidance will take the form of an overview and supporting documents. The “Overview to Results-Based Approaches to Corrective Action” defines results-based corrective action and lists some of the approaches recommended to help stakeholders achieve program goals. These approaches include tailored oversight, procedural flexibility, holistic approach, presumptive remedies, performance standards, use of innovative technologies, targeted data collection, and owner/operator initiated corrective action. The first supporting document focuses on implementing tailored oversight. It provides a recommended framework for project managers and owner/operators to develop an oversight plan tailored to site-specific conditions.

B. Corrective Action Completion

This document will guide the Regions and the authorized States through issues that arise at the end of the corrective action process at RCRA treatment, storage, and disposal facilities (TSDF). Formal recognition that corrective action activities are complete provides assurance to the owner or operator that EPA intends no further imposition of RCRA corrective action requirements at the site unless the facility continues to operate as a TSDF and there is a subsequent release. Providing this assurance can help communities return previously used commercial and industrial properties, such as “brownfields,” to productive use.

It is important that EPA Regions and the authorized States understand the issues related to corrective action completion. This guidance will provide useful information, and will encourage appropriate and timely action on the part of regulators.

C. Handbook of Groundwater Policies for RCRA Corrective Action

EPA is compiling in a single Handbook most policies concerning groundwater at facilities subject to corrective action under RCRA. This Handbook will help address concerns about time-consuming uncertainties and confusion about EPA's expectations for groundwater protection and clean up. It will help you as regulators and members of the regulated community, as well as the general public, find and understand EPA policies on groundwater use and the protection and clean up of groundwater at RCRA facilities. It will highlight the considerable flexibility in existing policies, particularly to those states that have distinguished the relative value and priority of their groundwater resources. The Handbook will also encourage States to take a lead role in protecting their groundwater resources.

Topic areas that will be discussed in the guidance will include: Groundwater Use Designations, Short-Term Protectiveness Goals, Final Remediation Goals, Cleanup Levels, Point of Compliance, Source Control, Monitored Natural Attenuation, Technical Impracticability, and Completing Remedies.

III. Why Are These Guidance Documents Significant?

The draft guidance documents discussed above are significant because EPA announced on October 7, 1999 (64 FR 54604) that it would not be finalizing the vast majority of the 1990 Proposed Subpart S regulations. EPA withdrew most of the proposed rule because we determined that such regulations are not necessary to carry out the Agency's duties under sections 3004 (u) and (v). Additionally, attempting to promulgate a comprehensive set of RCRA regulations could unnecessarily disrupt the State and Territorial programs already authorized to carry out the Corrective Action Program in lieu of EPA, as well as the additional State programs currently undergoing review for authorization. This decision ended uncertainty related to the Subpart S rulemaking for State regulators and owners and operators of hazardous waste management facilities. The guidance documents discussed in this notice will provide some further direction on performing the cleanup, or “corrective action,” of contamination at RCRA facilities.

IV. What Is the Proposed Schedule?

A. Guidance Document Review

We anticipate that all the draft guidance documents will be available for public review and comment in spring 2000. These guidance documents are likely to become available at different times this spring. They will be available for review for a period of sixty (60) days for each draft guidance document. EPA is announcing the upcoming availability of the draft guidance documents for review and comment and information on how to obtain them when they are available and provide input on them to the Agency in this Federal Register and also on the following Websites: www.epa.gov/correctiveaction and www.epa.gov/epaoswer/osw/cleanup.

B. Feedback on RCRA Reforms

We continue to seek feedback from all stakeholders on the need for additional reforms to the RCRA Corrective Action program.

V. How Can I Influence EPA's Thinking on the RCRA Corrective Action Program?

In developing these upcoming draft guidances and the RCRA Cleanup Reforms, we are trying to address the key factors that may be impeding timely and cost-effective cleanups. We invite you to provide different views, or new approaches we haven't considered in trying to improve the pace and effectiveness of Corrective Action Cleanups. We welcome your views on the draft guidances and any aspect of the Reforms. Your feedback will be most effective if you follow the suggestions below:

—Explain your views as clearly as possible and why you feel that way,

—Provide solid technical and cost data to support your views,

—Tell us which parts you support, as well as those you disagree with,

—Provide solid technical and cost data to support your views,

—Tell us which parts you support, as well as those you disagree with,

—Provide specific examples to illustrate your point,

—Offer specific Reforms,

—Refer your comments to specific sections of the Reforms material, and

—Be sure to include the name, date, and docket number with your comments.

EPA continues to seek feedback from all stakeholders on the need for additional reforms to the RCRA Corrective Action Program. Based on stakeholder input and our ongoing assessment of the program, we will continue to refine the RCRA Cleanup Reforms, add reforms as needed, and communicate program changes including those resulting from stakeholder input. EPA may need to seek clarification of electronic or written feedback, or feedback received over the telephone.

Dated: March 17, 2000.
Elizabeth A. Cotsworth,
Director, Office of Solid Waste.

[FR Doc. 00-7326 Filed 3-23-00; 8:45 am]

BILLING CODE 6560-50-U